DEPARTMENT OF ENERGY

Federal Energy Regulatory Commission

Combined Notice of Filings #1

Take notice that the Commission received the following electric corporate filings:

Docket Numbers: EC14-41-000.

Applicants: NorthWestern Corporation, PPL Montana, LLC.

Description: Joint Application for Order Authorizing Acquisition and Disposition of Jurisdictional Facilities of NorthWestern Corporation and PPL Montana, LLC.

Filed Date: 1/10/14.

Accession Number: 20140110-5172.

Comments Due: 5 p.m. ET 1/31/14.

Take notice that the Commission received the following electric rate filings:

Docket Numbers: ER10-1819-005; ER10-1820-007; ER10-1818-004; ER10-1817-005.

Applicants: Northern States Power Company, a Minnesota corporation.

Description: Public Service Company of Colorado et al submits revised WACM Exhibit JWS-8, Exhibit JWS-9, and Revised SIL Results for Market-Based Rate Authorization Triennial Market Power Analysis.

Filed Date: 1/10/14.

Accession Number: 20140110-0006.

Comments Due: 5 p.m. ET 1/31/14.

Docket Numbers: ER11-1858-003; ER11-1859-002.

Applicants: NorthWestern Corporation, Montana Generation, LLC.

Description: Notice of Change in Status of NorthWestern Corporation and Montana Generation, LLC.

Filed Date: 1/10/14.

Accession Number: 20140110-5159.

Comments Due: 5 p.m. ET 1/31/14.

Docket Numbers: ER12-673-003; ER12-672-003; ER10-1908-006; ER10-1909-006; ER10-1910-006; ER10-1911-006; ER10-1533-007; ER10-2374-005; ER12-674-004; ER12-670-004.

Applicants: Brea Generation LLC, Brea Power II, LLC, Duquesne Conemaugh LLC, Duquesne Keystone LLC, Duquesne Light Company, Duquesne Power, LLC, Macquarie Energy LLC, Puget Sound Energy, Inc., Rhode Island Engine Genco, LLC, Rhode Island LFG Genco, LLC.

Description: Notice of Non-Material Change in Status of Brea Generation LLC, et al.

Filed Date: 1/13/14.

Accession Number: 20140113-5074.

Comments Due: 5 p.m. ET 2/3/14.

Docket Numbers: ER12-1821-003.

Applicants: Colorado Highlands Wind, LLC.

Description: Notice of Non-Material Change in Status of Colorado Highlands Wind, LLC.

Filed Date: 1/13/14.

Accession Number: 20140113-5059.

Comments Due: 5 p.m. ET 2/3/14.

Docket Numbers: ER14-799-000.

Applicants: Pacific Gas and Electric Company.

Description: TACBAA 2014 Supplemental Information to be effective N/A.

Filed Date: 1/9/14.

Accession Number: 20140109-5125.

Comments Due: 5 p.m. ET 1/30/14.

Docket Numbers: ER14-974-000.

Applicants: Northern Indiana Public Service Company.

Description: Filing of an Amendment to Transmission Upgrade Agreement to be effective 3/12/2014.

Filed Date: 1/10/14.

Accession Number: 20140110-5135

Comments Due: 5 p.m. ET 1/31/14

Docket Numbers: ER14-975-000.

Applicants: Wisconsin Electric Power Company.

Description: ComED Metering Construction and Maintenance Agrmt—FERC RS 133—Jan 2014 to be effective 2/20/2014.

Filed Date: 1/10/14.

Accession Number: 20140110-5141.

Comments Due: 5 p.m. ET 1/31/14.

Docket Numbers: ER14-976-000.

Applicants: Alabama Power Company.

Description: SMEPA Interconnection Agreement Filing to be effective 1/1/2014.

Filed Date: 1/10/14.

Accession Number: 20140110-5144.

Comments Due: 5 p.m. ET 1/31/14.

Docket Numbers: ER14-977-000.

Applicants: Mississippi Power Company.

Description: SMEPA Interconnection Agreement Filing to be effective 1/1/2014.

Filed Date: 1/10/14.

Accession Number: 20140110-5145.

Comments Due: 5 p.m. ET 1/31/14.

Docket Numbers: ER14-978-000.

Applicants: Gulf Power Company.

Description: SMEPA Interconnection Agreement Filing to be effective 1/1/2014.

Filed Date: 1/10/14.

Accession Number: 20140110-5146.

Comments Due: 5 p.m. ET 1/31/14.

Docket Numbers: ER14-979-000.

Applicants: Georgia Power Company.

Description: Georgia Power Company submits tariff filing per 35.13(a)(2)(iii: SMEPA Interchange Agreement Filing to be effective 1/1/2014.

Filed Date: 1/10/14.

Accession Number: 20140110-5147.

Comments Due: 5 p.m. ET 1/31/14.

Docket Numbers: ER14-980-000.

Applicants: ITC Midwest LLC.

Description: Filing of Joint Use Pole Agreement with Ames Municipal Electric Services to be effective 3/15/2014.

Filed Date: 1/13/14.

Accession Number: 20140113-5040.

Comments Due: 5 p.m. ET 2/3/14.

Docket Numbers: ER14-981-000.

Applicants: Southern California Edison Company.

Description: Notice of Cancellation of GIA with Houweling Nurseries Oxnard, Inc. to be effective 10/28/2013.

Filed Date: 1/13/14.

Accession Number: 20140113-5080.

Comments Due: 5 p.m. ET 2/3/14.

Docket Numbers: ER14-982-000.

Applicants: Ameren Illinois Company.

Description: Switching Agreement Between AIC and IMEA to be effective 12/12/2013.

Filed Date: 1/13/14.

Accession Number: 20140113-5081.

Comments Due: 5 p.m. ET 2/3/14.

Docket Numbers: ER14-983-000.

Applicants: Southern California Edison Company.

Description: Tehachapi Wind Energy Storage SGIA and Distribution Service Agmt to be effective 12/15/2013.

Filed Date: 1/13/14.

Accession Number: 20140113-5096.

Comments Due: 5 p.m. ET 2/3/14.

Take notice that the Commission received the following electric securities filings:

Docket Numbers: ES14-19-000.

Applicants: New York State Electric & Gas Corporation.

Description: Amendment to December 24, 2013 Application for Authorization to Issue Short-Term Debt Securities under FPA Section 204 of New York State Electric & Gas Corporation.

Filed Date: 1/10/14.

Accession Number: 20140110-5176.

Comments Due: 5 p.m. ET 1/21/14.

The filings are accessible in the Commission's eLibrary system by clicking on the links or querying the docket number.

Any person desiring to intervene or protest in any of the above proceedings must file in accordance with Rules 211 and 214 of the Commission's Regulations (18 CFR 85.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 13, 2014.
Nathaniel J. Davis, Sr.,
Deputy Secretary.

[FR Doc. 2014-01073 Filed 1-21-14; 8:45 am]

BILLING CODE 6717-01-P